Executive Order 14136 of January 3, 2025

Providing an Order of Succession Within the Department of Justice

By the authority vested in me as President by the Constitution and the laws of the United States of America, including the Federal Vacancies Reform Act of 1998, as amended, 5 U.S.C. 3345 et seq. (the “Act”), it is hereby ordered that:

Section 1. Order of Succession. Subject to the provisions of section 2 of this order, and to the limitations set forth in the Act, the following officials of the Department of Justice, in the order listed, shall act as and perform the functions and duties of the office of Attorney General during any period in which the Attorney General, the Deputy Attorney General, the Associate Attorney General, and any officers designated by the Attorney General pursuant to 28 U.S.C. 508 to act as Attorney General have died, resigned, or otherwise become unable to perform the functions and duties of the office of Attorney General, until such time as at least one of the officers mentioned above is able to perform the functions and duties of that office:

(a) United States Attorney for the Southern District of New York;

(b) United States Attorney for the District of Arizona;

(c) United States Attorney for the Northern District of Illinois; and

(d) United States Attorney for the District of Hawaii.

Sec. 2. Exceptions. (a) No individual who is serving in an office listed in section 1(a)-(d) of this order in an acting capacity shall, by virtue of so serving, act as Attorney General pursuant to this order.

(b) No individual who is serving in an office listed in section 1(a)-(d) of this order shall act as Attorney General unless that individual is otherwise eligible to so serve under the Act.

(c) Notwithstanding the provisions of this order, the President retains discretion, to the extent permitted by law, to depart from this order in designating an acting Attorney General.

Sec. 3. Revocation. Executive Order 13787 of March 31, 2017 (Providing an Order of Succession Within the Department of Justice), is hereby revoked.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

January 3, 2025.

[FR Doc. 2025-00611

Filed 1-10-25; 8:45 am]

Billing code 3395-F4-P